FEDERAL EMERGENCY MANAGEMENT AGENCY

44 CFR Part 65

[Docket No. FEMA-B-7411]

Changes in Flood Elevation Determinations

AGENCY: Federal Emergency Management Agency (FEMA).

ACTION: Interim rule.

SUMMARY: This interim rule lists communities where modification of the base (1% annual chance) flood elevations is appropriate because of new scientific or technical data. New flood insurance premium rates will be calculated from the modified base flood elevations for new buildings and their contents.

DATES: These modified base flood elevations are currently in effect on the dates listed in the table below and revise the Flood Insurance Rate Map(s) in effect prior to this determination for each listed community.

From the date of the second publication of these changes in a newspaper of local circulation, any person has ninety (90) days in which to request through the community that the Associate Director for Mitigation reconsider the changes. The modified elevations may be changed during the 90-day period.

ADDRESSES: The modified base flood elevations for each community are available for inspection at the office of the Chief Executive Officer of each community. The respective addresses are listed in the following table.

FOR FURTHER INFORMATION CONTACT: Matthew B. Miller, P.E., Chief, Hazards Study Branch, Mitigation Directorate, 500 C Street SW., Washington, DC 20472, (202) 646-3461, or (e-mail) matt.miller@fema.gov.

SUPPLEMENTARY INFORMATION: The modified base flood elevations are not listed for each community in this interim rule. However, the address of the Chief Executive Officer of the community where the modified base flood elevation determinations are available for inspection is provided.

Any request for reconsideration must be based on knowledge of changed conditions, or upon new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State, or regional entities.

The changes in base flood elevations are in accordance with 44 CFR 65.4. National Environmental Policy Act. This rule is categorically excluded from the requirements of 44 CFR part 10, Environmental Consideration. No environmental impact assessment has been prepared.

Regulatory Flexibility Act. The Associate Director for Mitigation certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This interim rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Arizona:
Cochise | Unincorporated Areas | November 8, 2000, November 15, 2000, Arizona Range News | The Honorable Mike Palmer, Chairman, Cochise County Board of Supervisors, 1415 West Melody Lane, Bisbee, Arizona 85603 | Feb. 15, 2001 | 040012
Maricopa | Town of Buckeye | August 10, 2000, August 17, 2000, Arizona Republic | The Honorable Dusty Hull, Mayor, Town of Buckeye, 100 North Apache Road, Suite A, Buckeye, Arizona 85326 | July 19, 2000 | 040039
Maricopa | Unincorporated Areas | August 10, 2000, August 17, 2000, Arizona Republic | The Honorable Andrew Kunasek, Chairperson, Maricopa County Board of Supervisors, 301 West Jefferson, 10th Floor, Phoenix, Arizona 85003 | July 19, 2000 | 040037
Pima | City of Tucson | December 1, 2000, December 8, 2000, Arizona Daily Star | The Honorable Robert E. Walkup, Mayor, City of Tucson, P.O. Box 27210, Tucson, Arizona 85726 | Nov. 8, 2000 | 040076
Pima | City of Tucson | December 22, 2000, December 29, 2001, Arizona Daily Star | The Honorable Robert E. Walkup, Mayor, City of Tucson, P.O. Box 27210, Tucson, Arizona 85726 | Mar. 29, 2001 | 040076
California:
Mendocino | City of Ukiah | December 1, 2000, December 8, 2000, Ukiah Daily Journal | The Honorable Jim Mastin, Mayor, City of Ukiah, 300 Seminary Avenue, Ukiah, California 95482 | Nov. 14, 2000 | 060186
Santa Clara | City of Milpitas | December 13, 2000, December 20, 2000, Milpitas Post | The Honorable Henry Manayan, Mayor, City of Milpitas, 455 East Calaveras Boulevard, Milpitas, California 95035 | Nov. 27, 2000 | 060344
Colorado: Arapahoe | Unincorporated Areas | November 29, 2000, December 6, 2000, Denver Post | The Honorable John Brackney, Chairman, Arapahoe County Board of Commissioners, 5334 South Prince Street, Littleton, Colorado 80166 | Nov. 3, 2000 | 080011
Oklahoma:
Rogers | City of Owasso | Sept. 28, 2000, October 5, 2000, Owasso Reporter | The Honorable Mark Wilken, Mayor, City of Owasso, P.O. Box 180, Owasso, Oklahoma 74055-0180 | Sept. 8, 2000 | 400210
Tulsa | City of Broken Arrow | October 24, 2000, October 31, 2000, Broken Arrow Daily Ledger | The Honorable James Reynolds, Mayor, City of Broken Arrow, P.O. Box 610, Broken Arrow, Oklahoma 74013 | Oct. 5, 2000 | 400236
Oregon:
Clackamas | Unincorporated Areas | November 24, 2000, December 1, 2000, The Oregonian | The Honorable Bill Kennemer, Chairman, Clackamas County Board of Commissioners, 906 Main Street, Oregon City, Oregon 97045 | Mar. 1, 2001 | 415588
Lincoln | City of Newport | August 25, 2000, September 1, 2000, Newport News-Times | The Honorable Mark Jones, Mayor, City of Newport, 1801 North Coast Highway, Newport, Oregon 97365 | Aug. 11, 2000 | 410131
Texas:
Bexar | City of San Antonio | December 7, 2000, December 14, 2000, San Antonio Express-News | The Honorable Howard W. Peak, Mayor, City of San Antonio, P.O. Box 839966, San Antonio, Texas 78283-3966 | Nov. 15, 2000 | 480045
Dallas | City of Carrollton | September 29, 2000, October 6, 2000, Metrocrest News | The Honorable Mark Stokes, Mayor, City of Carrollton, P.O. Box 110535, Carrollton, Texas 75011-0535 | Jan. 4, 2001 | 480167
Tarrant | City of North Richland Hills | May 25, 2000, June 1, 2000, Star Telegram | The Honorable Charles Scoma, Mayor, City of North Richland Hills, P.O. Box 820609, North Richland Hills, Texas 76182-0609 | May 3, 2000 | 480607
Tarrant | City of North Richland Hills | June 20, 2000, June 27, 2000, Star Telegram | The Honorable Charles Scoma, Mayor, City of North Richland Hills, P.O. Box 820609, North Richland Hills, Texas 76182-0609 | May 24, 2000 | 480607

(Catalog of Federal Domestic Assistance No. 83.100, “Flood Insurance”)

Margaret E. Lawless,
Acting Executive Associate Director for Mitigation.

[FR Doc. 01-3920 Filed 2-15-01; 8:45 am]

BILLING CODE 6718-04-P